Title 3—

The President

Memorandum of August 28, 2015

Delegation of Authority To Transfer Certain Funds in Accordance With Section 610 of the Foreign Assistance Act of 1961

Memorandum for the Secretary of State

By the authority vested in me as President by the Constitution and the laws of the United States of America, including section 610 of the Foreign Assistance Act of 1961 (FAA) and section 301 of title 3, United States Code, I hereby delegate to you the authority, subject to fulfilling the requirements of section 652 of the FAA and section 7009(d) of the Department of State, Foreign Operations, and Related Programs Appropriations Act, 2014 (Division K, Public Law 113-76), to make the determination necessary for and to execute the transfer of $19,000,000 of Fiscal Year 2014 International Narcotics Control and Law Enforcement-Overseas Contingency Operations funds to the Economic Support Fund-Overseas Contingency Operations account.

You are authorized and directed to publish this memorandum in the Federal Register.

THE WHITE HOUSE,

Washington, August 28, 2015

[FR Doc. 2015-23489

Filed 9-16-15; 8:45 am]

Billing code 4710-10-P